DEPARTMENT OF STATE

[Public Notice 10767]

30-Day Notice of Proposed Information Collection: Request for Commodity Jurisdiction Determination

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to June 12, 2019.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

You must include the information collection title (Request for Commodity Jurisdiction Determination), form number (DS-4076), and the OMB control number (1405-0163) in all correspondence.

FOR FURTHER INFORMATION CONTACT: Direct requests for additional information regarding the collection listed in this notice, including requests for copies of the proposed collection instrument and supporting documents, to Andrea Battista, who may be reached at battistaal@state.gov via email or 202-663-3136 via phone.

SUPPLEMENTARY INFORMATION:

• Title of Information Collection: Request for Commodity Jurisdiction Determination.

• OMB Control Number: 1405-0163.

• Type of Request: Revision of a Currently Approved Collection.

• Originating Office: Directorate of Defense Trade Controls (PM/DDTC).

• Form Number: DS-4076.

• Respondents: Any person requesting a commodity jurisdiction determination.

• Estimated Number of Respondents: 600.

• Estimated Number of Responses: 600.

• Average Time per Response: 4 hours.

• Total Estimated Burden Time: 2,400 annual hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Pursuant to ITAR § 120.4, a person, as defined by ITAR § 120.14, may request a written determination from the Department of State stating whether a particular article or service is covered by the United States Munitions List (USML). Form DS-4076 is the means by which respondents may submit this request. Information submitted via DS-4076 will be shared with the Department of Defense, Department of Commerce, and other USG agencies, as needed, during the commodity jurisdiction process. Determinations will be made on a case-by-case basis based on the commodity's form, fit, function, and performance capability.

Methodology

Respondents must submit the DS-4076 electronically through DDTC's electronic system. Respondents may access the DS-4076 on DDTC's website, www.pmddtc.state.gov, under Commodity Jurisdictions (CJs).

Karen M. Wrege,
Chief Information Officer.

[FR Doc. 2019-09827 Filed 5-10-19; 8:45 am]

BILLING CODE 4710-25-P